LEGAL SERVICES CORPORATION

Notice of Intent To Award—Grant Awards for the Provision of Civil Legal Services to Eligible Low-Income Clients Beginning January 1, 2017

AGENCY: Legal Services Corporation.

ACTION: Announcement of intention to make FY 2017 Grant Awards.

SUMMARY: The Legal Services Corporation (LSC) hereby announces its intention to award grants to provide economical and effective delivery of high quality civil legal services to eligible low-income clients, beginning January 1, 2017.

DATES: All comments and recommendations must be received on or before the close of business on December 5, 2016.

ADDRESSES: Legal Services Corporation—Grants Awards, Legal Services Corporation; 3333 K Street NW., Third Floor, Washington, DC 20007.

FOR FURTHER INFORMATION CONTACT: Reginald Haley, Office of Program Performance, at (202) 295-1545, or haleyr@lsc.gov.

SUPPLEMENTARY INFORMATION: Pursuant to LSC's announcement of funding availability on March 24, 2016, 81 FR 15754, and Grant Renewal applications due beginning June 1, 2016, LSC intends to award funds to provide civil legal services in the indicated service areas. Applicants for each service area are listed below. The amounts below are estimates based on the 2016 grant awards to each service area. The estimates incorporate the adjustments for the agricultural worker population as described at http://www.lsc.gov/ag-worker-data. The funding estimates may change based on the final FY2017 appropriation.

LSC will post all updates and/or changes to this notice at http://www.grants.lsc.gov/grants-grantee-resources. Interested parties are asked to visit http://www.grants.lsc.gov/grants-grantee-resources regularly for updates on the LSC grants process.

Name of applicant organization | State | Service area | Estimated annualized 2017 funding
Alaska Legal Services Corporation | AK | AK-1 | $741,073
Alaska Legal Services Corporation | AK | NAK-1 | 556,121
Legal Services Alabama | AL | AL-4 | 6,123,393
Legal Aid of Arkansas | AR | AR-6 | 1,469,531
Center for Arkansas Legal Services | AR | AR-7 | 2,134,386
American Samoa Legal Aid | AS | AS-1 | 216,951
Community Legal Services | AZ | MAZ | 178,985
Community Legal Services | AZ | AZ-3 | 5,431,956
Southern Arizona Legal Aid | AZ | AZ-5 | 2,141,137
DNA-Peoples Legal Services | AZ | AZ-2 | 426,023
Southern Arizona Legal Aid | AZ | NAZ-6 | 655,456
DNA-Peoples Legal Services | AZ | NAZ-5 | 2,683,310
California Rural Legal Assistance | CA | MCA | 2,617,000
California Indian Legal Services | CA | CA-1 | 20,117
Greater Bakersfield Legal Assistance | CA | CA-2 | 1,144,116
Central California Legal Services | CA | CA-26 | 3,228,962
Legal Aid Foundation of Los Angeles | CA | CA-29 | 6,155,682
Neighborhood Legal Services of Los Angeles County | CA | CA-30 | 4,383,963
Inland Counties Legal Services | CA | CA-12 | 5,277,785
Legal Services of Northern California | CA | CA-27 | 3,876,782
Legal Aid Society of San Diego | CA | CA-14 | 2,989,977
California Rural Legal Assistance | CA | CA-31 | 5,018,808
Bay Area Legal Aid | CA | CA-28 | 4,122,146
Legal Aid Society of Orange County | CA | CA-19 | 3,854,358
California Indian Legal Services | CA | NCA-1 | 908,493
Colorado Legal Services | CO | MCO | 180,774
Colorado Legal Services | CO | CO-6 | 4,121,449
Colorado Legal Services | CO | NCO-1 | 98,754
Statewide Legal Services of Connecticut | CT | CT-1 | 2,519,312
Pine Tree Legal Assistance | CT | NCT-1 | 16,099
Neighborhood Legal Services Program of DC | DC | DC-1 | 754,782
Legal Services Corporation of Delaware | DE | DE-1 | 754,969
Legal Aid Bureau | DE | MDE | 19,218
Florida Rural Legal Services | FL | MFL | 730,538
Community Legal Services of Mid-Florida | FL | FL-15 | 4,640,897
Florida Rural Legal Services | FL | FL-17 | 3,902,016
Legal Services of Greater Miami | FL | FL-5 | 3,569,324
Legal Services of North Florida | FL | FL-13 | 1,435,752
Bay Area Legal Services | FL | FL-16 | 3,398,986
Three Rivers Legal Services | FL | FL-14 | 2,137,273
Coast to Coast Legal Aid of South Florida | FL | FL-18 | 2,089,796
Georgia Legal Services Program | GA | MGA | 335,199
Atlanta Legal Aid Society | GA | GA-1 | 3,796,481
Georgia Legal Services Program | GA | GA-2 | 8,131,242
Guam Legal Services Corporation | GU | GU-1 | 244,499
Legal Aid Society of Hawaii | HI | HI-1 | 1,284,668
Legal Aid Society of Hawaii | HI | NHI-1 | 235,552
Iowa Legal Aid | IA | MIA | 181,450
Iowa Legal Aid | IA | IA-3 | 2,327,206
Idaho Legal Aid Services | ID | MID | 220,047
Idaho Legal Aid Services | ID | ID-1 | 1,403,078
Idaho Legal Aid Services | ID | NID-1 | 66,807
Legal Assistance Foundation | IL | MIL | 252,971
Legal Assistance Foundation | IL | IL-6 | 5,866,002
Land of Lincoln Legal Assistance Foundation | IL | IL-3 | 2,547,340
Prairie State Legal Services | IL | IL-7 | 3,641,385
Indiana Legal Services | IN | MIN | 150,120
Indiana Legal Services | IN | IN-5 | 6,494,476
Kansas Legal Services | KS | KS-1 | 2,610,245
Legal Aid of the Bluegrass | KY | KY-10 | 1,459,451
Legal Aid Society | KY | KY-2 | 1,271,594
Appalachian Research and Defense Fund of Kentucky | KY | KY-5 | 1,613,022
Kentucky Legal Aid | KY | KY-9 | 1,118,558
Acadiana Legal Service Corporation | LA | LA-10 | 1,474,467
Acadiana Legal Service Corporation | LA | LA-11 | 1,551,192
Legal Services of North Louisiana | LA | LA-11 | 1,551,192
Southeast Louisiana Legal Services Corporation | LA | LA-13 | 3,000,372
Pine Region Legal Aid | LA | LA-11 | 1,551,192
Volunteer Lawyers Project of the Boston Bar Assoc. | MA | MA-11 | 2,013,002
South Coastal Counties Legal Services | MA | MA-12 | 841,595
Northeast Legal Aid | MA | MA-4 | 803,653
Community Legal Aid | MA | MA-10 | 1,469,369
Legal Aid Bureau | MD | MD-1 | 3,951,576
Legal Aid Bureau | MD | MMD | 71,248
Pine Tree Legal Assistance | ME | MMX-1 | 190,835
Pine Tree Legal Assistance | ME | ME-1 | 1,170,642
Pine Tree Legal Assistance | ME | NME-1 | 66,279
Michigan Advocacy Program | MI | MMI | 467,389
Michigan Advocacy Program | MI | MI-12 | 1,512,391
Legal Services of Eastern Michigan | MI | MI-14 | 1,552,347
Lakeshore Legal Aid | MI | MI-13 | 4,196,162
Legal Services of Northern Michigan | MI | MI-9 | 785,785
Legal Aid of Western Michigan | MI | MI-15 | 2,186,083
Michigan Indian Legal Services | MI | NMI-1 | 169,276
Southern Minnesota Regional Legal Services | MN | MMN | 242,661
Legal Aid Service of Northeastern Minnesota | MN | MN-1 | 441,546
Central Minnesota Legal Services | MN | MN-6 | 1,623,247
Legal Services of Northwest Minnesota Corporation | MN | MN-4 | 317,581
Southern Minnesota Regional Legal Services | MN | MN-5 | 1,544,668
Anishinabe Legal Services | MN | NMN-1 | 245,745
Legal Aid of Western Missouri | MO | MMO | 138,747
Legal Aid of Western Missouri | MO | MO-3 | 1,931,134
Legal Services of Eastern Missouri | MO | MO-4 | 1,911,602
Mid-Missouri Legal Services Corporation | MO | MO-5 | 447,967
Legal Services of Southern Missouri | MO | MO-7 | 1,767,761
Micronesian Legal Services | MP | MP-1 | 1,226,169
North Mississippi Rural Legal Services | MS | MS-9 | 1,605,360
Mississippi Center for Legal Services | MS | MS-10 | 2,548,651
Mississippi Center for Legal Services | MS | NMS-1 | 85,478
Montana Legal Services Association | MT | MMT | 80,800
Montana Legal Services Association | MT | MT-1 | 969,239
Montana Legal Services Association | MT | NMT-1 | 163,734
Legal Aid of North Carolina | NC | MNC | 463,965
Legal Aid of North Carolina | NC | NC-5 | 10,917,178
Legal Aid of North Carolina | NC | NNC-1 | 224,422
Legal Services of North Dakota | ND | MND | 118,864
Legal Services of North Dakota | ND | ND-3 | 442,219
Legal Services of North Dakota | ND | NND-3 | 276,997
Southern Minnesota Regional Legal Services | ND | MND | 118,864
Legal Aid of Nebraska | NE | MNE | 132,695
Legal Aid of Nebraska | NE | NE-4 | 1,417,656
Legal Aid of Nebraska | NE | NNE-1 | 33,990
Legal Advice & Referral Center | NH | NH-1 | 787,447
South Jersey Legal Services | NJ | MNJ | 96,706
Legal Services of Northwest Jersey | NJ | NJ-15 | 403,334
South Jersey Legal Services | NJ | NJ-16 | 1,419,547
South Jersey Legal Services | NJ | NJ-12 | 814,019
Northeast New Jersey Legal Services Corporation | NJ | NJ-18 | 1,889,964
Essex-Newark Legal Services Project | NJ | NJ-8 | 875,601
Central Jersey Legal Services | NJ | NJ-17 | 1,136,456
New Mexico Legal Aid | NM | MNM | 92,653
DNA-Peoples Legal Services | NM | NM-1 | 176,958
New Mexico Legal Aid | NM | NM-5 | 2,705,152
DNA-Peoples Legal Services | NM | NNM-2 | 23,363
New Mexico Legal Aid | NM | NNM-4 | 477,790
Nevada Legal Services | NV | NV-1 | 2,910,481
Nevada Legal Services | NV | NNV-1 | 136,737
Legal Aid Society of Mid-New York | NY | MNY | 263,649
Legal Aid Society of Northeastern New York | NY | NY-21 | 1,273,393
Neighborhood Legal Services | NY | NY-24 | 1,221,550
Nassau/Suffolk Law Services Committee | NY | NY-7 | 1,320,389
Legal Services NYC | NY | NY-9 | 11,755,163
Legal Assistance of Western New York | NY | NY-23 | 1,665,332
Legal Aid Society of Mid-New York | NY | NY-22 | 1,640,207
Legal Services of the Hudson Valley | NY | NY-20 | 1,750,874
Legal Aid of Western Ohio | OH | MOH | 176,957
Community Legal Aid Services | OH | OH-20 | 1,787,044
Legal Aid Society of Greater Cincinnati | OH | OH-18 | 1,626,720
The Legal Aid Society of Cleveland | OH | OH-21 | 2,224,913
Ohio State Legal Services | OH | OH-24 | 3,372,394
Legal Aid of Western Ohio | OH | OH-23 | 2,991,786
Legal Aid Services of Oklahoma | OK | MOK | 101,305
Legal Aid Services of Oklahoma | OK | OK-3 | 4,153,550
Oklahoma Indian Legal Services | OK | NOK-1 | 841,963
Legal Aid Services of Oregon | OR | MOR | 507,357
Legal Aid Services of Oregon | OR | OR-6 | 3,888,067
Legal Aid Services of Oregon | OR | NOR-1 | 189,825
Philadelphia Legal Assistance Center | PA | MPA | 173,957
Philadelphia Legal Assistance Center | PA | PA-1 | 2,650,840
Laurel Legal Services | PA | PA-5 | 591,589
MidPenn Legal Services | PA | PA-25 | 2,433,673
Neighborhood Legal Services Association | PA | PA-8 | 1,369,708
North Penn Legal Services | PA | PA-24 | 1,880,615
Southwestern Pennsylvania Legal Services | PA | PA-11 | 414,954
Northwestern Legal Services | PA | PA-26 | 651,714
Legal Aid of Southeastern Pennsylvania | PA | PA-23 | 1,306,338
Puerto Rico Legal Services | PR | MPR | 175,940
Puerto Rico Legal Services | PR | PR-1 | 10,663,785
Community Law Office | PR | PR-2 | 239,716
Rhode Island Legal Services | RI | RI-1 | 989,001
South Carolina Legal Services | SC | MSC | 165,865
South Carolina Legal Services | SC | SC-8 | 5,589,620
East River Legal Services | SD | SD-2 | 396,301
Dakota Plains Legal Services | SD | SD-4 | 400,598
Dakota Plains Legal Services | SD | NSD-1 | 960,128
Legal Aid of East Tennessee | TN | TN-9 | 2,508,380
Memphis Area Legal Services | TN | TN-4 | 1,559,629
Legal Aid Society of Middle TN and the Cumberlands | TN | TN-10 | 3,121,680
West Tennessee Legal Services | TN | TN-7 | 700,533
Texas RioGrande Legal Aid | TX | MSX-2 | 1,672,296
Legal Aid of NorthWest Texas | TX | TX-14 | 8,923,293
Lone Star Legal Aid | TX | TX-13 | 10,278,664
Texas RioGrande Legal Aid | TX | TX-15 | 10,565,783
Texas RioGrande Legal Aid | TX | NTX-1 | 32,183
Utah Legal Services | UT | MUT | 73,289
Utah Legal Services | UT | UT-1 | 2,244,974
Utah Legal Services | UT | NUT-1 | 84,598
Central Virginia Legal Aid Society | VA | MVA | 158,585
Legal Services of Northern Virginia | VA | VA-20 | 1,467,087
Southwest Virginia Legal Aid Society | VA | VA-15 | 711,526
Legal Aid Society of Eastern Virginia | VA | VA-16 | 1,291,796
Central Virginia Legal Aid Society | VA | VA-18 | 1,186,352
Virginia Legal Aid Society | VA | VA-17 | 895,898
Blue Ridge Legal Services | VA | VA-19 | 791,317
Legal Services of the Virgin Islands | VI | VI-1 | 161,119
Legal Services Law Line of Vermont | VT | VT-1 | 479,249
Northwest Justice Project | WA | MWA | 667,471
Northwest Justice Project | WA | WA-1 | 5,563,807
Northwest Justice Project | WA | NWA-1 | 292,929
Legal Action of Wisconsin | WI | MWI | 212,421
Legal Action of Wisconsin | WI | WI-5 | 3,904,788
Wisconsin Judicare | WI | WI-2 | 918,107
Wisconsin Judicare | WI | NWI-1 | 159,512
Legal Aid of West Virginia | WV | WV-5 | 2,235,497
Legal Aid of Wyoming | WY | WY-4 | 434,973
Legal Aid of Wyoming | WY | NWY-1 | 177,694

These grants will be awarded under the authority conferred on LSC by section 1006(a)(1) of the Legal Services Corporation Act, 42 U.S.C. 2996e(a)(l). Awards will be made so that each service area is served, although no listed organization is guaranteed an award. Grants will become effective and grant funds will be distributed on or about January 1, 2017.

This notice is issued pursuant to 42 U.S.C. 2996f(f). Comments and recommendations concerning potential grantees are invited, and should be delivered to LSC within 30 days from the date of publication of this notice.

Dated: November 1, 2016.
Katherine Ward,
Executive Assistant to the General Counsel and Vice President for Legal Affairs.

[FR Doc. 2016-26675 Filed 11-3-16; 8:45 am]

BILLING CODE 7050-01-P